DEPARTMENT OF COMMERCE

National Oceanic and Atmospheric Administration

RIN 0648-XC062

Draft 2012 Marine Mammal Stock Assessment Reports

AGENCY: National Marine Fisheries Service (NMFS), National Oceanic and Atmospheric Administration (NOAA), Commerce.

ACTION: Notice; request for comments.

SUMMARY: NMFS reviewed the Alaska, Atlantic, and Pacific regional marine mammal stock assessment reports (SARs) in accordance with the Marine Mammal Protection Act. SARs for marine mammals in the Alaska, Atlantic, and Pacific regions were revised according to new information. NMFS solicits public comments on draft 2012 SARs.

DATES: Comments must be received by November 5, 2012.

ADDRESSES: The 2012 draft SARs, summaries of them, and references cited in this notice are available in electronic form via the Internet at http://www.nmfs.noaa.gov/pr/sars/draft.htm.

Copies of the Alaska Regional SARs may be requested from Robyn Angliss, Alaska Fisheries Science Center, NMFS, 7600 Sand Point Way NE., BIN 15700, Seattle, WA 98115-0070.

Copies of the Atlantic, Gulf of Mexico, and Caribbean Regional SARs may be requested from Gordon Waring, Northeast Fisheries Science Center, 166 Water St., Woods Hole, MA 02543.

Copies of the Pacific Regional SARs may be requested from Jim Carretta, Southwest Fisheries Science Center, 8604 La Jolla Shores Drive, La Jolla, CA 92037-1508.

You may submit comments, identified by [NOAA-NMFS-2012-0119], by any of the following methods:

Electronic Submissions: Submit all electronic public comments via the Federal eRulemaking Portal http://www.regulations.gov.

Mail: Send comments or requests for copies of reports to: Chief, Marine Mammal and Sea Turtle Conservation Division, Office of Protected Resources, National Marine Fisheries Service, 1315 East-West Highway, Silver Spring, MD 20910-3226, Attn: Stock Assessments.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Shannon Bettridge, Office of Protected Resources, 301-427-8402, Shannon.Bettridge@noaa.gov; Robyn Angliss 206-526-4032, Robyn.Angliss@noaa.gov, regarding Alaska regional stock assessments; Gordon Waring, 508-495-2311, Gordon.Waring@noaa.gov, regarding Atlantic, Gulf of Mexico, and Caribbean regional stock assessments; or Jim Carretta, 858-546-7171, Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every three years for non-strategic stocks. The term “strategic stock” means a marine mammal stock: (A) For which the level of direct human-caused mortality exceeds the potential biological removal level; (B) which, based on the best available scientific information, is declining and is likely to be listed as a threatened species under the Endangered Species Act within the foreseeable future; or (C) which is listed as a threatened species or endangered species under the Endangered Species Act. NMFS and the FWS are required to revise a SAR if the status of the stock has changed or can be more accurately determined. NMFS, in conjunction with the Alaska, Atlantic, and Pacific independent Scientific Review Groups (SRGs), reviewed the status of marine mammal stocks as required and revised reports in the Alaska, Atlantic, and Pacific regions to incorporate new information. NMFS solicits public comments on the draft 2012 SARs.

Alaska Reports

In the Alaska region (waters off Alaska that are under the jurisdiction of the United States), SARs for 29 Alaska stocks (14 “strategic,” 15 “non-strategic”) were updated. The following stocks were reviewed and considered for updating for 2012: Steller sea lion (western and eastern stocks), Northern fur seal, harbor seals (12 stocks), Cook Inlet beluga whale, AT1 transient killer whale, Pacific white-sided dolphin, harbor porpoise (Gulf of Alaska, Bering Sea, Southeast Alaska stocks), Dall's porpoise, sperm whale, humpback whale (western North Pacific and central North Pacific stocks), fin whale, minke whale, North Pacific right whale, and bowhead whale. Most revisions included updates of abundance and/or mortality estimates. None of the updates resulted in change of status of a stock. Information on the remaining Alaska region stocks can be found in the final 2011 reports (Allen and Angliss, 2012).

In 2010, NMFS and the Alaska Native Harbor Seal Commission held their annual co-management meeting during which they agreed to proceed with a revised set of population boundaries for harbor seals in Alaska, resulting in a population structure of twelve harbor seal stocks in Alaska. At the recommendation of the Alaska SRG, data for all 12 harbor seals stocks in Alaska will be presented in a single harbor seal SAR document. Therefore, NMFS will not be developing separate SARs for all 12 stocks. Serious injury and mortality records for harbor seals are reported; however, most of these records have not been assigned to a particular stock.

Typically, the most recent five years of data are used for estimating average annual serious injury and mortality of stocks. In 2007, the NMFS Alaska Fisheries Science Center (AFSC) developed a new database for the fisheries observer data and analytical methods for estimating bycatch were updated. As a result of these changes, AFSC determined that data from 2007 onward could not be combined with data from analyses of data prior to 2006. Therefore, after consulting the SRG, the AFSC decided to base fishery observer serious injury and mortality estimates on an analysis of the most recent four-year period from 2007-2010.

NMFS has decided to shift the eastern North Pacific gray whale SAR from the Alaska SARs to the Pacific SARs beginning in 2012, because the Southwest Fisheries Science Center (SWFSC) has the responsibility for conducting abundance estimates and management for the gray whale stock. In 2012, both the Alaska SRG and Pacific SRG reviewed the gray whale SAR, and staff who compile the Pacific SARs have worked closely with AFSC and Northwest Regional Office staff during this first year of transition.

Atlantic Reports

In the Atlantic region (including the Atlantic coast, Gulf Coast, and U.S. territories in the Caribbean), 52 reports (covering 80 stocks) were updated, including 23 Atlantic reports and 29 Gulf of Mexico reports. Of these, 43 stocks are “strategic” and 37 are “non-strategic.” Information on the remaining Atlantic region stocks can be found in the final 2011 reports (Waring et al., 2011).

Atlantic white-sided dolphins became non-strategic in 2012, due to new abundance estimates. The Northern North Carolina Estuarine System Stock of bottlenose dolphins has a new abundance estimate based on a 2006 mark-recapture survey, resulting in a PBR calculation of 7.9 animals for this stock (previously “undetermined” PBR); the stock remains “strategic.” The Gulf of Mexico Northern Coastal Stock of bottlenose dolphins changed from non-strategic to strategic status with this 2012 report, because an Unusual Mortality Event of unprecedented size and duration (began 1 February 2010 and is ongoing) has impacted the Northern Coastal Stock area.

A new section entitled Habitat Issues has been added to each Gulf of Mexico report, which includes information on the Deepwater Horizon oil spill and the Natural Resource Damage Assessment process.

Pacific Reports

In the Pacific region (waters along the west coast of the United States, within waters surrounding the main and Northwest Hawaiian Islands, and within waters surrounding U.S. Territories in the Western Pacific), SARs were revised for 15 stocks (five “strategic” and ten “non-strategic” stocks). Strategic stocks included: Hawaiian monk seal, Southern Resident killer whale, Hawaii Insular false killer whale, Hawaii Pelagic false killer whale, and California/Oregon/Washington Sperm Whale. Non-strategic stocks included: Long-beaked common dolphin, Eastern North Pacific Gray Whale, Northwestern Hawaiian Islands false killer whale, Palmyra Atoll false killer whale, Hawaii Island spinner dolphin, Oahu/Four Islands spinner dolphin, Kauai/Niihau spinner dolphin, Pearl and Hermes Reef spinner dolphin, Midway Atoll/Kure spinner dolphin, and Hawaii Pelagic spinner dolphin. Information on the remaining Pacific region stocks can be found in the final 2011 reports (Carretta et al., 2012).

The stock assessment report for Palmyra Atoll false killer whale now appears separately from false killer whale reports that focus on the Hawaiian Islands region, and a new stock of Northwestern Hawaiian Islands false killer whales is presented for the first time. New abundance estimates are available for eight stocks: Hawaiian monk seal, Long-beaked common dolphin, Southern Resident killer whale, three stocks of spinner dolphin (Hawaii Island, Oahu/Four Islands, and Kauai/Niihau), Hawaii Pelagic false killer whale and Northwestern Hawaiian Islands false killer whale. The stock assessment report for Eastern North Pacific gray whales is now included in the Pacific Region stock assessment reports.

Dated: August 1, 2012.
Helen M. Golde,
Acting Director, Office of Protected Resources, National Marine Fisheries Service.

[FR Doc. 2012-19308 Filed 8-6-12; 8:45 am]

BILLING CODE 3510-22-P